DEPARTMENT OF COMMERCE

International Trade Administration

[Application No. 03-2A007]

Export Trade Certificate of Review

ACTION: Notice of issuance of an amended Export Trade Certificate of Review to The Great Lakes Fruit Exporters Association, LLC, Application No. 03-2A007.

SUMMARY: The Secretary of Commerce, through the Office of Trade and Economic Analysis (“OTEA”), issued an amended Export Trade Certificate of Review to The Great Lakes Fruit Exporters Association, LLC (“GLFEA”) of Michigan on April 27, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

GLFEA's Export Trade Certificate of Review has been amended to make the following changes to the list of Members covered by the Certificate:

1. Adding as new Member:

a. All Fresh GPS, LLC.

2. Deleting the following members:

a. Greg Orchards and Produce, Inc.; Applewood Orchards, Inc.; Heeren Brothers Inc.; AJ's Produce Inc.; Appletree Marketing LLC; and Michigan Fresh Marketing LLC.

The Great Lakes Fruit Exporters Association, LLC's proposed amendment of its Export Trade Certificate of Review would result in the following entities as Members under the Certificate:

1. Riveridge Produce Marketing, Inc.

2. North Bay Produce, Inc.

3. Greenridge Fruit, Inc.

4. Jack Brown Produce, Inc.

5. BelleHarvest Sales, Inc.

6. All Fresh GPS, LLC

No change has been made regarding the Export Trade, Export Trade Activities or Methods of Operation covered by the Certificate.

The amended Certificate of Review is effective from January 28, 2016, the date on which the application for an amendment was deemed submitted.

Dated: May 3, 2016.
Joseph E. Flynn,
Director, Office of Trade and Economic Analysis.

[FR Doc. 2016-10713 Filed 5-5-16; 8:45 am]

BILLING CODE 3510-DR-P